DEPARTMENT OF TRANSPORTATION

Federal Highway Administration

Notice of Final Federal Agency Actions on Proposed Highway Project in Wisconsin

AGENCY: Federal Highway Administration (FHWA).

ACTION: Notice of Limitation on Claims for Judicial Review of Actions by FHWA and other Federal Agencies.

SUMMARY: This notice announces actions taken by the FHWA and other Federal Agencies that are final within the meaning of 23 U.S.C. 139(l)(1). The actions relate to the Wisconsin (WIS) 164 reconditioning project from County Trunk Highway (CTH) Q to CTH E in Washington County, Wisconsin. Those actions grant approvals for the project.

DATES: By this notice, the FHWA is advising the public of final agency actions subject to 23 U.S.C. 139(l)(1). Claims seeking judicial review of the Federal agency actions on the highway project will be barred unless the claim is filed on or before September 21, 2015. If the Federal law that authorizes judicial review of a claim provides a time period of less than 150 days for filing such claim, then that shorter time period still applies.

FOR FURTHER INFORMATION CONTACT: George Poirier, Division Administrator, FHWA, 525 Junction Road, Suite 8000, Madison, Wisconsin 53717; telephone: (608) 829-7500. The FHWA Wisconsin Division's normal office hours are 7 a.m. to 4 p.m. central time.

SUPPLEMENTARY INFORMATION: Notice is hereby given that FHWA and other Federal agencies have taken final agency actions subject to 23 U.S.C. 139(l)(1) by issuing approvals for the following highway project: WIS 164 reconditioning from CTH Q to CTH E in Washington County, Wisconsin. The purpose of the project is to address poor pavement condition, safety, traffic flow, and to provide adequate bicycle facilities. The project will recondition WIS 164 by milling and resurfacing the existing roadway, widening the roadway to meet desirable lane and shoulder widths, including bicycle accommodations on the paved shoulder, and correcting steep side slopes. The project will also incorporate spot safety and geometric improvements which include the following reconstruction activities: Cutting hill crests, reducing profile grades, and reconstructing intersections to a better type and location. Of the 7.5 mile overall project length, approximately 5.1 miles of WIS 164 will be reconditioned and approximately 2.4 miles will be reconstructed. To the extent practicable, the proposed WIS 164 improvements avoid and minimize impacts to the natural, cultural, and built environment.

The actions by the Federal agencies on this project, and the laws under which such actions were taken, are described in the approved Categorical Exclusion (Wisconsin Department of Transportation Final Environmental Report), and in other documents in the FHWA administrative record. The Categorical Exclusion (CE) was approved by FHWA on April 10, 2015.

The CE and other documents in the administrative record are available by contacting FHWA at the address provided above. The CE can be downloaded from the project Web site at http://www.dot.wisconsin.gov/projects/seregion/164/index.htm, or viewed at the FHWA Wisconsin Division Office or the Wisconsin Department of Transportation Southeast Region Office, 141 NW Barstow Street, Waukesha, WI 53187.

This notice applies to all Federal agency decisions as of the issuance date of this notice and all laws under which such actions were taken, including but not limited to:

1. General: National Environmental Policy Act (NEPA) [42 U.S.C. 4321- 4351], Federal-Aid Highway Act [23 U.S.C. 109, 23 U.S.C. 128, and 23 U.S.C. 139].

2. Air: Clean Air Act [42 U.S.C. 7401- 7671(q) and 23 U.S.C. 109(j)].

3. Land: Section 4(f) of the Department of Transportation Act of 1966 [23 U.S.C. 138 and 49 U.S.C. 303].

4. Wildlife: Endangered Species Act [16 U.S.C. 1531-1544 and Section 1536], Fish and Wildlife Coordination Act [16 U.S.C. 661-667(d)], Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)], Uniform Relocation Assistance and Real Property Acquisition Act of 1970 [42 U.S.C. 4601 et seq. as amended by the Uniform Relocation Act Amendments of 1987 [Pub. L. 100-17].

7. Wetlands and Water Resources: Clean Water Act (Section 404, Section 401, and Section 319) [33 U.S.C. 1251- 1376].

8. Hazardous Materials: Comprehensive Environmental Response, Compensation, and Liability Act [42 U.S.C. 9601-9675].

9. Executive Orders: E.O. 11990 Protection of Wetlands, E.O. 11988 Floodplain Management, E.O. 12898 Federal Actions to Address Environmental Justice in Minority Populations and Low Income Populations, E.O. 13175 Consultation and Coordination with Indian Tribal Governments, E.O. 11514 Protection and Enhancement of Environmental Quality, E.O. 13112 Invasive Species.

(Catalog of Federal Domestic Assistance Program Number 20.205, Highway Planning and Construction. The regulations implementing Executive Order 12372 regarding intergovernmental consultation on Federal programs and activities apply to this program.)

Issued on: April 13, 2015.
George R. Poirier,
Division Administrator, Madison, Wisconsin.

[FR Doc. 2015-09445 Filed 4-23-15; 8:45 am]

BILLING CODE 4910-RY-P